DEPARTMENT OF TRANSPORTATION

Federal Aviation Administration

Notice of Availability of the Final Environmental Impact Statement (Final EIS) for the Development and Extension of Runway 9R/27L and Other Associated Airport Projects at Fort Lauderdale-Hollywood International Airport (FLL)

AGENCY: Federal Aviation Administration (FAA), DOT.

ACTION: Notice of availability and notice of 30-day public comment period.

SUMMARY: The FAA is issuing this Notice of Availability to advise the public that a Final EIS will be available for public review beginning June 27, 2008. The document was prepared pursuant to a proposal presented to the FAA by the Broward County Board of County Commissioners, the owner and operator of FLL and identified in the Final EIS as the Airport Sponsor, for environmental review.

The FAA prepared this Final EIS to analyze and disclose potential environmental impacts related to possible Federal actions at FLL. Numerous Federal actions would be necessary if airfield development were to be implemented. Proposed improvements include Runway 9R/27L development and extension and other airfield projects (see below).

The Final EIS presents the purpose and need for the proposed Federal action, analysis of reasonable alternatives, including the No Action alternative, discussion of impacts for each reasonable alternative, the selection of the FAA's Preferred Alternative, proposed mitigation, and supporting appendices.

The Airport Sponsor proposes to redevelop and expand Runway 9R/27L to an overall length of 8,000 feet and width of 150 feet (the reconstructed runway would be equipped with an Engineered Materials Arresting System (EMAS) at both runway ends); elevate Runway 9R end and Runway 27L end to provide 34.74 feet of vertical clearance over the Florida East Coast (FEC) Railway; construct a new full-length parallel taxiway 75 feet wide on the north side of Runway 9R/27L with separation of 400 feet from 9R/27L; construct an outer dual parallel taxiway that would be separated from the proposed north side parallel taxiway by 276 feet; construct connecting taxiways from the proposed full-length parallel taxiway to existing taxiways; construct a Category I Instrument Landing System (ILS) for landings on Runways 9R and 27L that includes a Medium Intensity Approach Light System with runway alignment indicator lights (MALSR), localizer, and glideslope. The Airport Sponsor also proposes to decommission Runway 13/31 and redevelop and expand terminal gate facilities.

Connected actions associated with the Airport Sponsor's Proposed Project include closing Airport Perimeter Road located within the approach to Runway 9R; relocate ASR-9; acquire all, or a portion, of the Hilton Fort Lauderdale Airport Hotel (formerly Wyndham Fort Lauderdale Airport Hotel) and the Dania Boat Sales to the extent existing structures are within the Proposed Runway Protection Zone (RPZ) for extended Runway 9R/27L.

Public Comment: The public comment period on the Final EIS starts June 27, 2008 and closes on July 28, 2008.

Comments can only be accepted with the full name and address of the individual commenting. Mail and fax comments are to be submitted to Ms. Virginia Lane of the FAA, at the address shown in FOR FURTHER INFORMATION CONTACT. All comments must be postmarked or faxed no later than midnight, Monday, July 28, 2008. The Final EIS may be reviewed for comment during regular business hours at the following locations:

1. Broward County Governmental Center, 115 S. Andrews Avenue, Fort Lauderdale, FL 33301 (Telephone: 954-357-7000)

2. Broward County Library—Main Branch, 100 S. Andrews Avenue, Fort Lauderdale, FL 33301 (Telephone: 954-354-7444)

3. Broward County Library—Fort Lauderdale Branch, 1300 E. Sunrise Boulevard, Fort Lauderdale, FL 33304 (Telephone: 954-765-4263)

4. Broward County Library—Hollywood Branch, 2600 Hollywood Boulevard, Hollywood, FL 33020 (Telephone: 954-926-2430)

5. Broward County Library—Dania Beach Paul DeMaio Branch, 255 E. Dania Beach Boulevard, Dania Beach, FL 33004 (Telephone: 954-926-2420)

6. Broward County Library—Davie/Cooper City Branch, 4600 SW 82nd Avenue, Davie, FL 33328 (Telephone: 954-680-0050)

7. Broward County Library—Lauderhill Towne Centre, 6399 W. Oakland Park Boulevard, Lauderhill, FL 33313 (Telephone: 954-497-1630)

8. Broward County Library—Stirling Road Branch, 3151 Stirling Road, Hollywood, FL 33021 (Telephone: 954-985-2689)

9. Broward County Library—Pembroke Pines/Walter C. Young Branch, 955 NW 129th Avenue, Pembroke Pines, FL 33025 (Telephone: 954-437-2635)

10. Broward County Library—West Regional Branch, 8601 W. Broward Boulevard, Plantation, FL 33324 (Telephone: 954-831-3300)

11. Broward County Library—Sunrise Dan Pearl Branch, 10500 W. Oakland Park Boulevard, Sunrise, FL 33351 (Telephone: 954-749-2521)

12. Fort Lauderdale-Hollywood International Airport, Public Outreach Trailer, Broward County Aviation Department, 550 Northwest 10th Street, Dania Beach, FL 33315 (Telephone: 954-359-6977)

13. Broward County Administration Office, Broward County Governmental Center, 115 S. Andrews Avenue, Room 409, Fort Lauderdale, FL 33301 (Telephone: 954-357-7000)

14. Broward County Aviation Department, 100 Aviation Boulevard, Fort Lauderdale, FL 33315 (Telephone: 954-359-6199)

A CD version of the Final EIS document will also be available at the following public locations. Broward County will be providing an electronic copy of the Final EIS on the Broward County web site at http://www.broward.org/airport/

15. City of Lauderhill, Lauderhill City Hall, 2000 City Hall Drive, Lauderhill, FL 33313 (Telephone: 954-739-0100)

16. City of Pembroke Pines, Pembroke Pines City Hall, 10100 Pines Boulevard, Pembroke Pines, FL 33025 (Telephone: 954-431-4500)

17. City of Cooper City, Cooper City Hall, 9090 S.W. 50th Place, Cooper City, FL 33328 (Telephone: 954-434-4300)

18. City of Sunrise, 10770 W. Oakland Park Blvd., Sunrise, FL 33351 (Telephone: 954-741-2580)

19. City of Fort Lauderdale, 100 N. Andrews Avenue, Fort Lauderdale, FL 33301 (Telephone: 954-761-5000)

20. City of Plantation, Plantation City Hall, 400 N.W. 73rd Avenue, Plantation, FL 33317 (Telephone: 954-797-2221)

21. City of Hollywood, Hollywood City Hall, 2600 Hollywood Boulevard, Hollywood, FL 33020 (Telephone: 954-921-3473)

22. City of Dania Beach, Dania Beach City Hall, 100 W. Dania Beach Boulevard, Dania Beach, FL 33004 (Telephone: 954-924-3600)

23. Town of Davie, Davie Town Hall, 6591 S.W. 45th Street, Davie, FL 33314 (Telephone: 954-797-1000)

SUPPLEMENTARY INFORMATION: Comments should be as specific as possible. Comments should address the contents of the Final EIS, such as the analysis of potential environmental impacts, the adequacy of the proposed action to meet the stated need, or the merits of the various alternatives. This commenting procedure is intended to ensure that substantive comments and concerns are made available to the FAA in a timely and effective manner, so that the FAA has an opportunity to address them.

FOR FURTHER INFORMATION CONTACT: Ms. Virginia Lane, FAA Orlando Airports District Office, 5950 Hazeltine National Drive, Suite 400, Orlando, Florida 32822-5024. Telephone: (407) 812-6331, Fax: (407) 812-6978

Issued in Orlando, Florida on June 27, 2008.
W. Dean Stringer,
Manager, FAA Orlando Airports District Office.

[FR Doc. E8-15061 Filed 7-1-08; 8:45 am]

BILLING CODE 4910-13-P